FEDERAL COMMUNICATIONS COMMISSION

Notice of Public Information Collection(s) Being Submitted for Review to the Office of Management and Budget

October 19, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before December 2, 2005. If you anticipate that you will be submitting PRA comments, but find it difficult to do so within the period of time allowed by this notice, you should advise the contact listed below as soon as possible.

ADDRESSES: Direct all Paperwork Reduction Act (PRA) comments to Leslie F. Smith, Federal Communications Commission, Room 1-A804, 445 12th Street, SW., Washington, DC 20554 or via the Internet to Leslie.Smith@fcc.gov. If you would like to obtain or view a copy of this new or revised information collection, you may do so by visiting the FCC PRA Web page at: http://www.fcc.gov/omd/pra.

FOR FURTHER INFORMATION CONTACT: For additional information or copies of the information collection(s), contact Leslie F. Smith at (202) 418-0217 or via the Internet at Leslie.Smith@fcc.gov.

SUPPLEMENTARY INFORMATION: OMB Control Number: 3060-0329.

Title: Equipment Authorization—Verification, 47 CFR § 2.955.

Form Number: N/A.

Type of Review: Extension of a currently approved collection.

Respondents: Not-for-profit institutions; Business or other for-profit entities.

Number of Respondents: 5,655.

Estimated Time per Response: 18 hours (avg.).

Frequency of Response: Recordkeeping; One-time and on occasion reporting requirements; and Third party disclosure.

Total Annual Burden: 101,790 hours.

Total Estimated Cost: $1,131,000.

Privacy Impact Assessment: No impact(s).

Needs and Uses: The Commission rules 47 CFR Parts 15 and 18 require manufacturers of radio frequency (RF) equipment devices to gather and retain technical data on their equipment to verify compliance with established technical standards for each device operated under the applicable Rule part. Testing and verification aid in controlling potential interference to radio communications. The information may be used to determine that the equipment marketed complies with the applicable Commission rules and that the operation of the equipment is consistent with the initially documented test results. The information is essential to controlling potential interference to radio communications.

OMB Control Number: 3060-0812.

Title: Assessment and Collection of Regulatory Fees.

Form Number: N/A.

Type of Review: Extension of a currently approved collection.

Respondents: Not-for-profit institutions, and State, local, or tribal governments.

Number of Respondents: 4,500.

Estimated Time per Response: 0.5 hours.

Frequency of Response: Recordkeeping; On occasion and one-time reporting requirements.

Total Annual Burden: 2,475 hours.

Total Annual Cost: N/A.

Privacy Impact Assessment: No impact(s).

Needs and Uses: In accordance with the Telecommunications Act of 1934, as amended, and Congressional requirements, the FCC is required to assess and collect regulatory fees from licensees and regulatees in order to recover its costs incurred in conducting enforcement, policy and rulemaking, international, and user information activities. The purpose of the requirements are to facilitate: (1) the statutory provisions that “non-profit entity” may be exempt from payment of regulatory fees, and (2) the FCC's ability to audit regulatory fee payment information from all regulatees. The FCC must estimate as accurately as possible the number of payment units and distribute the costs to develop a Regulatory Fee Schedule. These estimates must be adjusted to account for any licensee or regulatee that is exempt from payment of regulatory fees. Therefore, the FCC requires all licensees and regulatees, which claim exemption as a non-profit entity, to provide one-time documentation sufficient to establish their non-profit status. Additionally, any newly licensed or operating non-profit entities must submit documentation of their exempt status within 60 days of receipt of the license, authorization, permit, or commencing operation. Further, the FCC is requesting that it be similarly notified if there are any status changes. Documentation that supports a regulatee's exempt status as a non-profit includes, but is not limited to, an Internal Revenue Service (IRS) Determination Letter, a state charter granting non-profit status, proof of church affiliation, articles of incorporation, and 501(c)(3) letters, et al. The FCC may require licensees to submit business data they used to calculate their regulatory fee payments to facilitate the Commission's audit of regulatory fee payment compliance.

Federal Communications Commission.
Marlene H. Dortch,
Secretary.

[FR Doc. 05-21469 Filed 11-1-05; 8:45 am]

BILLING CODE 6712-01-P